DEPARTMENT OF DEFENSE

Department of the Navy

Privacy Act of 1974; System of Records

AGENCY: Department of the Navy, DoD.

ACTION: Notice to add systems of records.

SUMMARY: The Department of the Navy proposes to add a system of records notice to its inventory of record systems subject to the Privacy Act of 1974 (5 U.S.C. 552a), as amended.

DATES: This action will be effective on April 6, 2005, unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Lama at 202-685-6545.

SUPPLEMENTARY INFORMATION: The Department of the Navy's record system notices for records systems, subject to the Privacy Act of 1974 (5 U.S.C. 552a), as amended, have been published in the Federal Register and are available: from the address above.

The proposed systems reports, as required by 5 U.S.C. 552a(r) of the Privacy Act, were submitted on January 26, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996, (61 FR 6427, February 20, 1996).

Dated: February 28, 2005.
Jeannette Owings-Ballard,
OSD Federal Register Liaison Officer, Department of Defense.

NM05100-5

System name:

Enterprise-wide Safety Applications Management System (ESAMS).

System location:

HGW and Associates, LLCI, Suite A-100, 9000 Executive Park Drive, Knoxville, TN 37923-4685 and organizational elements of the Department of the Navy. Official mailing addresses are published in the Standard Navy Distribution List that is available at http://ned.daps.dla.,mil/sndl.htm.

Categories of individuals covered by the system:

Department of the Navy military and civilian personnel, non-appropriated personnel, and foreign national civilian personnel.

Categories of records in the system:

Name, Social Security Number, date of birth, job title, rank/rate/grade, civilian/military indicator, unit identification code (UIC) , activity name, major command code, department, sex, job title, OSH training received, test scores, occupational medical stressors, medical physical dates and non-medically sensitive results, respirator usage and fit test results, chemical and/or environmental exposures, and occupational injuries/illnesses.

Authority for Maintenance of the System:

5 U.S.C. 4101-4118, the Government Employees Training Act of 1958; 10 U.S.C. 5013, Secretary of the Navy; 10 U.S.C. 5042, Commandant of the Marine Corps; E.O. 12196, Occupational Safety and Health Programs for Federal Employees; and DoD Instruction 6055.7, Accident Investigation, Reporting, and Record Keeping; and E.O. 9397 (SSN).

Purpose(s):

The Department of the Navy is proposing to establish a system of records to identify and track individuals performing duties in the safety and health programs for the Department of the Navy. To demonstrate compliance with the Occupational Safety and Heath Administration, the Navy Occupational Safety and Heath Program, and related regulations by identifying the personnel and their appropriate duties and requirements associated with these assigned tasks.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b) (3) as follows:

To the Occupational Safety and Health Administration during the course of an on-site inspection.

The DoD ‘Blanket Routine Uses’ that appear at the beginning of the Navy's compilation of systems bf records notices apply to this system.

Policies and Practices for Storing, Retrieving, Accessing, Retaining, and Disposing of Records in the System:

Storage:

Computerized database.

Retrievability:

Retrieved by individual's name and Social Security Number.

Safeguards:

Computer facilities and terminals pre located in restricted areas accessible only to authorized persons that are properly screened, cleared and trained. Information is password protected. Manual records and computer printouts are available only to authorized personnel having a need-to-know.

Retention and Disposal:

Records are retained for up to their duration of employment plus 30 years and then destroyed.

System Manager(s) and Address:

Organizational elements of the Department of the Navy. Official mailing addresses are published in the Standard Navy Distribution List that is available at http://neds.daps.dla.mit/sndl.htm.

Notification Procedure:

Individuals seeking to determine whether information about themselves is contained in this system of records should address written inquiries to the Commanding Officer of the local activity. Official mailing addresses are published in the Standard Navy Distribution List that is available at http://neds.daps.dla.mil/sndl.htm.

The request should contain individual's full name, Social Security Number, address and should be signed.

Record Access Procedures:

Individuals seeking to access the information about themselves contained in this system of records not accessible through system interfaces should address written inquiries to the Commanding Officer of the local activity. Official mailing addresses are published in the Standard Navy Distribution List that is available at http://neds.diaps.dla.mil/sndl.htm.

The request should contain the individual's full name, Social Security Number, address and should be signed.

Contesting Record Procedures:

The Navy's rules for accessing records, and for contesting contents and appealing initial agency determinations are published in Secretary of the Navy Instruction 5211.5; 32 CFR part 701; or may be obtained from the system manager.

Record Source Categories:

Individual; personnel file excerpts; medical record excerpts; office files; etc.

Exemptions Claimed for the System:

None.

[FR Doc. 05-4370 Filed 3-4-05; 8:45 am]

BILLING CODE 5001-06-P